COMMISSION ON CIVIL RIGHTS

Notice of Public Meeting of the Ohio Advisory Committee; Cancellation

AGENCY: Commission on Civil Rights.

ACTION: Notice; Cancellation of virtual business meeting.

SUMMARY: The Commission on Civil Rights published a notice in the Federal Register concerning a virtual business meeting of the Ohio Advisory Committee. The meeting scheduled for Wednesday, October 5, 2022, at 12:00 p.m. (ET) is cancelled. The notice is in the Federal Register of Tuesday, September 13, 2022, in FR Doc. 2022-19698 in the first column of page 55990.

FOR FURTHER INFORMATION CONTACT: Melissa Wojnaroski, mwojnaroski@usccr.gov.

Dated: September 22, 2022.
David Mussatt,
Supervisory Chief, Regional Programs Unit.

[FR Doc. 2022-20907 Filed 9-26-22; 8:45 am]

BILLING CODE P